DEPARTMENT OF ENERGY

Federal Energy Regulatory Commission

[Docket No. IC21-33-000]

Commission Information Collection Activities (FERC-566); Consolidated Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collections, FERC-566 (Annual Report of a Utility's 20 Largest Purchasers), which will be submitted to the Office of Management and Budget (OMB) for a review of this request for extension.

DATES: Comments on the collections of information are due August 30, 2021.

ADDRESSES: You may submit copies of your comments (identified by Docket No. IC21-33-000) on FERC-566 by one of the following methods: Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or by telephone at (202) 502-8663.

SUPPLEMENTARY INFORMATION:

Title: FERC-566 (Annual Report of a Utility's 20 Largest Purchasers).

OMB Control No.: 1902-0114.

Type of Request: Three-year extension of the FERC-566 information collection requirements with no revisions to the current requirements.

Abstract: Section 305(c) of the Federal Power Act (FPA),¹ mandates federal oversight and approval of certain electric corporate activities to ensure that neither public nor private interests are adversely affected. The FPA prescribes information filing requirements to achieve this goal. These filing requirements are found at 18 CFR 131.31, and serve as the basis for FERC-566.

¹ 16 U.S.C. 825d.

FERC-566 implements FPA requirements that each public utility annually publishes a list of the 20 purchasers which purchased the largest annual amounts of electric energy sold by such public utility during any of the three previous calendar years. The public disclosure of this information provides the information necessary to determine whether an interlocked position is with any of the 20 largest purchasers of electric energy.

Type of Respondents: Public utilities.

Estimate of Annual Burden: The Commission estimates 321 responses annually, and 4 hours and $332 per response. The total estimated burdens per year are 1,284 hours and $106,572. These burdens are itemized in the following table:

A. Number of respondents | B. Annual number of responses per respondent | C. Total number of responses | D. Average burden & cost per response ² | E. Total annual burden hours & total annual cost | F. Cost per respondent ($)
|  | (Column A × Column B) |  | (Column C × Column D) | (Column E ÷ Column A)
321 | 1 | 321 | 4 hrs.; $348 | 1,284 hrs.; $111,708 | $348

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² Commission staff estimates that the average industry hourly cost for this information collection is approximated by the current FERC 2021 average hourly costs for wages and benefits, i.e., $87.00/hour.

Dated: June 23, 2021.
Kimberly D. Bose,
Secretary.

[FR Doc. 2021-13822 Filed 6-28-21; 8:45 am]

BILLING CODE 6717-01-P